EXPORT-IMPORT BANK

Sunshine Act Meetings

Notice of an Open Meeting of the Board of Directors of the Export-Import Bank of the United States.

TIME AND DATE: Tuesday, September 29, 2020 at 10:00 a.m.

PLACE: The meeting will be held via teleconference.

STATUS: The meeting will be open to public observation by teleconference only.

MATTERS TO BE CONSIDERED: Item No. 1—Extension of the Special Delegated Authority and EXIM Actions to Address Urgent Under-Supply of Medical Supplies.

CONTACT PERSON FOR MORE INFORMATION: Joyce Stone at joyce.stone@exim.gov or 202-257-4086. Members of the public who wish to attend the meeting should use the following link: https://attendee.gotowebinar.com/register/4463446971882318094. Individuals will be given call-in information.

Joyce B. Stone,
Assistant Corporate Secretary.

[FR Doc. 2020-20865 Filed 9-17-20; 11:15 am]

BILLING CODE 6690-01-P